DEPARTMENT OF DEFENSE

Department of the Navy

32 CFR Part 706

Certifications and Exemptions Under the International Regulations for Preventing Collisions at Sea, 1972

AGENCY: Department of the Navy, DoD.

ACTION: Final rule.

SUMMARY: The Department of the Navy (DoN) is amending its certifications and exemptions under the International Regulations for Preventing Collisions at Sea, 1972 (72 COLREGS), to reflect that the Deputy Assistant Judge Advocate General (DAJAG) (Admiralty and Maritime Law) has determined that LCAC 1 through 91 and 100 through 173 are vessels of the Navy which, due to their special construction and purpose, cannot fully comply with certain provisions of the 72 COLREGS without interfering with their special functions as naval ships. The intended effect of this rule is to warn mariners in waters where 72 COLREGS apply.

DATES: This rule is effective May 23, 2018 and is applicable beginning April 9, 2018.

FOR FURTHER INFORMATION CONTACT: Lieutenant Commander Kyle Fralick, JAGC, U.S. Navy, Admiralty Attorney, (Admiralty and Maritime Law), Office of the Judge Advocate General, Department of the Navy, 1322 Patterson Ave. SE, Suite 3000, Washington Navy Yard, DC 20374-5066, telephone number: 202-685-5040.

SUPPLEMENTARY INFORMATION: Pursuant to the authority granted in 33 U.S.C. 1605, the DoN amends 32 CFR part 706.

This amendment provides notice that the DAJAG (Admiralty and Maritime Law), under authority delegated by the Secretary of the Navy, has certified that LCAC 1 Through 91 and 100 through 173 are vessels of the Navy which, due to their special construction and purpose, cannot fully comply with the following specific provisions of 72 COLREGS without interfering with their special functions as naval ships: Annex I paragraph 2 (a)(i), pertaining to the location of the forward masthead light at a height not less than 12 meters above the hull; Rule 21(a), pertaining to the location of the masthead lights over the fore and aft centerline of the ship; Annex I paragraph 2(f)(i) pertaining to placement of the masthead light above or lights above and clear of all other lights and obstructions; Annex I, paragraph 3(b), pertaining to the locations of the sidelights; Rule 27(a) and Annex I, paragraph 2(i)(i), pertaining to the vertical placement of the not-under-command lights; and Annex I, paragraph 9(b)(i), pertaining to the visibility of the all-round lights. The DAJAG (Admiralty and Maritime Law) has also certified that the lights involved are located in closest possible compliance with the applicable 72 COLREGS requirements.

Moreover, it has been determined, in accordance with 32 CFR parts 296 and 701, that publication of this amendment for public comment prior to adoption is impracticable, unnecessary, and contrary to public interest since it is based on technical findings that the placement of lights on this vessel in a manner differently from that prescribed herein will adversely affect the vessel's ability to perform its military functions.

List of Subjects in 32 CFR Part 706

Marine safety, Navigation (water), and Vessels.

For the reasons set forth in the preamble, the DoN amends part 706 of title 32 of the Code of Federal Regulations as follows:

PART 706—CERTIFICATIONS AND EXEMPTIONS UNDER THE INTERNATIONAL REGULATIONS FOR PREVENTING COLLISIONS AT SEA, 1972

1. The authority citation for part 706 continues to read as follows:

Authority: 33 U.S.C. 1605.

2. Section 706.2 is amended by:

a. In Table One by removing the two entries for LCAC (class) and adding three entries in their place;

b. In Table Two by removing the two entries for LCAC (class) and adding three entries in their place;

c. By revising paragraph 9 under the heading “Table Four”; and

d. In paragraph 16 table, under the heading “Table Four”, by adding an entry for LCAC 100 through 173 in alphabetical order.

§ 706.2 Certifications of the Secretary of the Navy under Executive Order 11964 and 33 U.S.C. 1605.

* * * * *

Table One
Vessel | Number | Distance in meters of forward masthead light below minimum required height. § 2(a)(i) Annex I
* * * * * * *
LCAC (class) | LCAC 1 through LCAC 91 | 6.51
LCAC (class) | LCAC 1 through LCAC 91 | 7.84 (Temp.).
LCAC (class) | LCAC 100 through LCAC 173 | 7.7.
* * * * * * *

* * * * *

Table Two
Vessel | Number | Masthead lights, distance to stbd of keel in meters; Rule 21(a) | Forward anchor light, distance below flight dk in meters; § 2(K) Annex I | Forward anchor light, number of; Rule 30(a)(i) | AFT anchor light, distance below flight dk in meters; Rule 21(e), Rule 30(a)(ii) | AFT anchor lights number of; Rule 30(a)(ii) | Side lights, distance below flight dk in meters; § 2(g) , Annex I | Side lights, distance forward of masthead light in meters; § 3(b), Annex I | Side lights, distance inboard of ship's sides in meters; § 3(b), Annex I
* * * * * * *
LCAC Class | LCAC 1 through LCAC 91 | 5.26 (Perm.) | 1.5 |  |  |  |  |  | 1.5
LCAC Class | LCAC 1 through LCAC 91 | 3.98 (Temp.) | 1.5 |  |  |  |  |  | 1.5
LCAC Class | LCAC 100 through 173 | 5.2 |  |  |  |  |  | 1.8 |
* * * * * * *

* * * * *

9. On LCAC 1 through 91 amphibious vessels, full compliance with Rules 21(a), 21(b) and Annex I, section 2(a)(i), 72 COLREGS, cannot be obtained. Tables One and Two of section 706.2 provide the dimensions of closest possible compliance of LCAC 1 through 91 amphibious vessels with the aforementioned rules. The following paragraph details the specific dimensions of closest possible compliance and the basis for certification by the Secretary of the Navy that full compliance with the aforementioned rules is not obtainable.

On LCAC 1 through 91 amphibious vessels, there are permanent and temporary masts. The permanent masthead light is located 5.26 meters athwartship to port of centerline 5.49 meters above the hull. The temporary masthead light is located 3.98 meters athwartship to starboard of centerline, 4.16 meters in height above the hull. The temporary masthead light is displayed in lieu of the permanent masthead light only when LCAC 1 through 91 amphibious vessels are operating with amphibious assault vessels. When operating in this mode, the sidelights are displayed at a height greater than three-quarters of the height of the temporary masthead light. The sidelights are located on top of the port and starboard deckhouses to permit the required unobstructed arcs of visibility and are 3.28 meters above the hull, resulting in a vertical separation between those lights and the temporary masthead light of 0.78 meters. Because of the minimal vertical separation between the sidelights and the temporary masthead light and the luminous intensity of the temporary light, the sidelights on these vessels may not be distinguishable by the naked eye at the 2-mil range required by Rule 22(b).

The arc of visibility of the temporary masthead light required by rule 21(a) may be obstructed at the following angles relative to the LCAC(1 through 91)'s heading, from 37.00 degrees thru 90.00 degrees up to a distance of 112.5 meters from the craft and from 267.75 degrees thru 277.25 degrees.

On LCAC 100 through 173 amphibious vessels, full compliance with Annex I, Paragraphs 2(i)(i) and 9(b)(i), 72 COLREGS, cannot be obtained. The upper and lower Not Under Command lights, located above the command module, are spaced 1.0 meters (3.3 feet) apart with the lower light at a height of 3.3 meters (10.8 feet) above the hull. The lower Not Under Command Light has angles of obstruction from 83.0 to 111.0 degrees, 137.0 to 145.5 degrees, 158.7 to 177.3 degrees, 171.7 to 184.1 degrees, 197.9 to 209.5 degrees, 230.5 to 240.5 degrees, and 244.9 to 256.5 degrees.

* * * * *

16. * * *

Vessel | Number | Obstruction angle relative ship's heading
* * * * * * *
LCAC (class) | LCAC 100 through LCAC 173 | 83 thru 84 [degrees].
* * * * * * *

* * * * *

Approved: April 9, 2018.
A.S. Janin,
Captain, USN, JAGC, Deputy Assistant Judge Advocate General (Admiralty and Maritime Law).
Dated: April 9, 2018.
E.K. Baldini,
Lieutenant Commander, Judge Advocate General's Corps, U.S. Navy, Federal Register Liaison Officer.

[FR Doc. 2018-11064 Filed 5-22-18; 8:45 am]

BILLING CODE 3810-FF-P